DEPARTMENT OF AGRICULTURE

Food and Nutrition Service

Emergency Food Assistance Program; Availability of Commodities for Fiscal Year 2007

AGENCY: Food and Nutrition Service, USDA.

ACTION: Notice.

SUMMARY: This notice announces the surplus and purchased commodities that the Department expects to make available for donation to States for use in providing nutrition assistance to the needy under the Emergency Food Assistance Program (TEFAP) in Fiscal Year (FY) 2007. The commodities made available under this notice must, at the discretion of the State, be distributed to eligible recipient agencies for use in preparing meals, and/or for distribution to households for home consumption.

DATES: Effective Date: October 1, 2006.

FOR FURTHER INFORMATION CONTACT: Lillie Ragan, Assistant Branch Chief, Policy Branch, Food Distribution Division, Food and Nutrition Service, U.S. Department of Agriculture, 3101 Park Center Drive, Alexandria, Virginia 22302-1594 or telephone (703) 305-2662.

SUPPLEMENTARY INFORMATION: In accordance with the provisions set forth in the Emergency Food Assistance Act of 1983 (EFAA), 7 U.S.C. 7502, and the Food Stamp Act of 1977, 7 U.S.C. 2011, et seq., the Department makes commodities and administrative funds available to States for use in providing nutrition assistance to those in need through TEFAP. In accordance with 7 CFR 251.3(h), each State's share of TEFAP commodities and administrative funds is based 60 percent on the number of low-income households within the State and 40 percent on the number of unemployed persons within the State. State officials are responsible for establishing the network through which the commodities will be used by eligible recipient agencies (ERAs) in providing nutrition assistance to those in need, and for allocating commodities and administrative funds among those agencies. States have full discretion in determining the amount of commodities that will be made available to ERAs for use in preparing meals, and/or for distribution to households for home consumption.

The types of commodities the Department expects to make available to States for distribution through TEFAP in FY 2007 are described below.

Surplus Commodities

Surplus commodities donated for distribution under TEFAP are Commodity Credit Corporation (CCC) commodities purchased under the authority of section 416 of the Agricultural Act of 1949, 7 U.S.C. 1431 (section 416) and commodities purchased under the surplus removal authority of section 32 of the Act of August 24, 1935, 7 U.S.C. 612c (section 32). The types of commodities typically purchased under section 416 include dairy, grains, oils, and peanut products. The types of commodities purchased under section 32 include meat, poultry, fish, vegetables, dry beans, juices, and fruits.

In FY 2007, the Department anticipates that there will be sufficient quantities of apple products, cherry products, grape juice, grapefruit juice, and fresh tomatoes under section 32, to support the distribution of these commodities through TEFAP. Other surplus commodities may be made available to TEFAP throughout the year. The Department would like to point out that commodity acquisitions are based on changing agricultural market conditions; therefore, the availability of commodities is subject to change.

Approximately $10 million in surplus commodities purchased in FY 2006 are being delivered to States in FY 2007. These commodities include frozen and canned asparagus, cranberry juice concentrate, cranberry sauce, fig pieces, and instant nonfat dry milk.

Purchased Commodities

In accordance with section 27 of the Food Stamp Act of 1977, 7 U.S.C. 2036, the Secretary is directed annually, through FY 2007, to purchase $140 million worth of commodities for distribution through TEFAP. These commodities are made available to States in addition to those surplus commodities which otherwise might be provided to States for distribution under TEFAP. However, the Revised Continuing Appropriations Resolution, 2007, (Pub. L. 110-5) permits States to convert any or their entire fair share of $10 million of these funds to administrative funds to pay costs associated with the distribution of TEFAP commodities at the State and local level.

For FY 2007, the Department anticipates purchasing the following commodities for distribution through TEFAP: Egg mix, blackeye beans, great northern beans, kidney beans, lima beans, pinto beans, bakery mix, lowfat bakery mix, egg noodles, white and yellow corn grits, macaroni, oats, peanut butter, rice, spaghetti, vegetable oil, rice cereal, corn flakes, corn squares, oat cereal, bran flakes, frozen ground beef, frozen chicken, frozen ham, frozen turkey roast, and the following canned items: Mixed vegetables, green beans, refried beans, vegetarian beans, carrots, cream corn, whole kernel corn, peas, pumpkin, spinach, sliced potatoes, spaghetti sauce, tomatoes, tomato sauce, tomato soup, vegetable soup, sweet potatoes, diced tomatoes, apple juice, cranapple juice, grape juice, orange juice, pineapple juice, tomato juice, mixed fruits, apricots, peaches, pineapples, applesauce, pears, plums, beef, beef stew, chicken, pork, tuna, and roasted peanuts. The amounts of each item purchased will depend on the prices the Department must pay, as well as the quantity of each item requested by the States. Changes in agricultural market conditions may result in the availability of additional types of commodities or the non-availability of one or more types listed above.

Dated: July 23, 2007.
Roberto Salazar,
Administrator.

[FR Doc. E7-14526 Filed 7-26-07; 8:45 am]

BILLING CODE 3410-30-P